DEPARTMENT OF THE INTERIOR

Bureau of Reclamation

[RR85800000, XXXR4524KK, RX.4888TINE.1320000; OMB Control Number 1006-1032]

Agency Information Collection Activities; Technical Service Center Summer Intern Program Application

AGENCY: Bureau of Reclamation, Interior.

ACTION: Notice of information collection; request for comment.

SUMMARY: In accordance with the Paperwork Reduction Act of 1995, we, the Bureau of Reclamation (Reclamation), are proposing to renew an information collection with revisions.

DATES: Interested persons are invited to submit comments on or before June 9, 2025.

ADDRESSES: Send your comments on this information collection request (ICR) by mail to Jessica Torrey, Supervisory Civil Engineer, Denver Federal Center, PO Box 25007, MS 86-68540, Denver, CO 80225; or by email to jtorrey@usbr.gov. Please reference OMB Control Number 1006-1032 in the subject line of your comments.

FOR FURTHER INFORMATION CONTACT: To request additional information about this ICR, contact Jessica Torrey by email at jtorrey@usbr.gov, or by telephone at (303) 445-2376. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The principal purpose for collecting the requested information is to recruit eligible students to participate in Reclamation's Technical Service Center Summer Intern Program. General contact information will be collected along with information on academic standing and areas/fields of interest. Respondents are also asked to submit an interest letter and resume. Revisions to this collection will be made to include additional options for respondents' areas of interest and work location preferences.

Title of Collection: Technical Service Center Summer Intern Program Application.

OMB Control Number: 1006-0032.

Form Numbers: 7-3000.

Type of Review: Revision of a currently approved information collection.

Respondents/Affected Public: Students interested in internships at Reclamation.

Total Estimated Number of Annual Respondents: 200.

Total Estimated Number of Annual Responses: 200.

Estimated Completion Time per Response: 140 minutes.

Total Estimated Number of Annual Burden Hours: 467 hours.

Respondent's Obligation: Required to obtain or retain a benefit.

Frequency of Collection: Annually.

Total Estimated Annual Non-hour Burden Cost: $0.

An agency may not conduct or sponsor and a person is not required to respond to a collection of information unless it displays a currently valid OMB control number.

The authority for this action is the Paperwork Reduction Act of 1995 (44 U.S.C. 3501 et seq).

Katie Bartojay,
Director, Technical Service Center.

[FR Doc. 2025-06095 Filed 4-8-25; 8:45 am]

BILLING CODE 4332-90-P